DEPARTMENT OF THE TREASURY

Community Development Financial Institutions Fund

Proposed Collection; Comment Request

ACTION: Notice and request for comments.

SUMMARY: The U.S. Department of the Treasury, as part of its continuing effort to reduce paperwork and respondent burden, invites the general public and other Federal agencies to take this opportunity to comment on proposed information collections, as required by the Paperwork Reduction Act of 1995, Public Law 104-13 (44 U.S.C. 3506(c)(2)(A)). Currently, the Community Development Financial Institutions (CDFI) Fund, Department of the Treasury, is soliciting comments concerning reporting and record retention requirements for the Capital Magnet Fund (CMF).

DATES: Written comments should be received on or before November 16, 2010 to be assured of consideration.

ADDRESSES: Direct all comments to Capital Magnet Fund Manager, Community Development Financial Institutions Fund, U.S. Department of the Treasury, 601 13th Street, NW., Suite 200 South, Washington, DC 20005, by e-mail to cdfihelp@cdfi.treas.gov or by facsimile to (202) 622-7754. This is not a toll free number.

FOR FURTHER INFORMATION CONTACT: Additional information about CMF may be obtained from the CMF page of the CDFI Fund's Web site at http://www.cdfifund.gov. The CMF Program Awardee Reporting Form may also be obtained from the CMF Program page of the CDFI Fund's Web site. Requests for any additional information should be directed to David Dworkin, Program Manager, Community Development Financial Institutions Fund, U.S. Department of the Treasury, 601 13th Street, NW., Suite 200 South, Washington, DC 20005, or call (202) 622-6355. This is not a toll free number.

SUPPLEMENTARY INFORMATION: Title: Capital Magnet Fund Reporting.

Abstract: The purpose of the CMF is to competitively award grants to certified CDFIs and qualified nonprofit housing organizations to finance affordable housing and related community development projects. The CMF was authorized in July of 2008 under Section 1339 of the Housing and Economic Recovery Act of 2008 (Pub. L. 110-289), and $80 million was appropriated for this initiative under the Consolidated Appropriations Act of 2010 (Pub. L. 111-117). Applicants submit applications and are evaluated in accordance with statutory requirements. Those successful applicants will receive an award and ultimately enter into an assistance agreement with the CDFI Fund. The Assistance Agreement will set forth certain required terms and conditions of the award, including reporting and data collection requirements.

Current Actions: New collection.

Type of Review: Regular Review.

Affected Public: Certified and certifiable CDFIs and qualified nonprofit housing organizations.

Estimated Number of Respondents: 20.

Estimated Annual Time per Respondent: 10 hours per year.

Estimated Total Annual Burden Hours: 200 hours per year.

Requests for Comments: Comments submitted in response to this notice will be summarized and/or included in the request for Office of Management and Budget approval. All comments will become a matter of public record and will be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: Public Law 110-289.

Dated: September 9, 2010.
Donna J. Gambrell,
Director, Community Development Financial Institutions Fund.

[FR Doc. 2010-23301 Filed 9-16-10; 8:45 am]

BILLING CODE 4810-70-P